DEPARTMENT OF TRANSPORTATION

Federal Aviation Administration

14 CFR Part 135

[Docket No. FAA-2004-17119]

Manual Requirements in Part 135; Correction

AGENCY: Federal Aviation Administration (FAA), DOT.

ACTION: Correction; technical amendment.

SUMMARY: This document makes corrections to the final regulations published in the Federal Register on March 19, 1997, (62 FR 13257). The regulations are related to what information is required to be included in a certificate holder's manual under part 135.

DATES: Effective upon publication.

FOR FURTHER INFORMATION CONTACT: John Chescavage; 202-267-9783; john.chescavage@faa.gov

SUPPLEMENTARY IMFORMATION:

Background

The most recent edition of Title 14 of the Code of Federal Regulations (14 CFR) published in 2003 included an error that, when corrected, produced another error that now needs to be corrected. The original error was that we listed § 135.423 as the section number for two different sections that should have had separate section numbers. These two sections were supposed to be numbered 135.423 and 135.424. In 2003, we corrected this error by changing the section numbers so that the following headings went with the appropriate number:

• § 135.423 Aging airplane inspections and records reviews for multiengine airplanes certificated with nine or fewer passenger seats (Eff. Dec. 8, 2003)

• § 135.424 Maintenance, preventive maintenance, and alteration organization

In February 2004, it was brought to our attention that there was a reference to § 135.423 in the regulations found in § 135.427(a). The reference to § 135.423 was accurate before we corrected the two similar section numbers, but since the numbers have been corrected, the reference is now wrong. The reference in § 135.427(a) is meant to point the reader to the section on “Maintenance, preventive maintenance, and alteration organization,” which is now § 135.424.

Need for Correction

As published, the final regulations in § 135.427(a) are misleading and send the reader to the wrong section when referring to what is required in their manual. The incorrect section number referenced in § 135.427(a) does not direct the reader to the right information and could result in the reader not meeting the requirements of the section. This reference needs to be corrected so that the reader is directed to the correct section and provided with the correct information necessary to meet the requirements for a certificate holder's manual.

List of Subjects in 14 CFR Part 135

Air taxis, Aircraft, Airmen, Alcohol abuse, Aviation safety, Drug abuse, Drug testing, Reporting and recordkeeping requirements.

Accordingly, 14 CFR part 135 is corrected by making the following correcting amendment:

PART 135—OPERATING REQUIREMENTS: COMMUTER AND ON DEMAND OPERATIONS AND RULES GOVERNING PERSONS ON BOARD SUCH AIRCRAFT

1. The authority citation for 14 CFR part 135 continues to read as follows:

Authority: 49 U.S.C. 106(g), 41706, 44113, 44101, 44701-44702, 44705, 44709, 44711-44713, 44715-44717, 44722.

2. Revise paragraph (a) of section 135.427 to read as follows:

§ 135.427 Manual Requirements.

(a) Each certificate holder shall put in its manual the chart or description of the certificate holder's organization required by § 135.424 and a list of persons with whom it has arranged for the performance of any of its required inspections, other maintenance, preventive maintenance, or alterations, including a general description of that work.

* * * * *

Issued in Washington, DC on April 2, 2004.
Donald P. Byrne,
Assistant Chief Counsel for Regulations.

[FR Doc. 04-7960 Filed 4-7-04; 8:45 am]

BILLING CODE 4910-13-P